DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Target Capacity Expansion Grants for Jail Diversion Programs—(OMB No. 0930-0277)—Revision

The Substance Abuse and Mental Health Services Administration's (SAMHSA), Center for Mental Health Services (CMHS) has implemented the Targeted Capacity Expansion Grants for Jail Diversion Programs, the Jail Diversion and Trauma Recovery Program represents the current cohort of grantees. The Program currently collects client outcome measures from program participants who agree to participate in the evaluation. Data collection consists of interviews conducted at baseline, six and twelve intervals, as well as the collection of data on participants from existing program records.

The current proposal requests the continuation of the data collection instruments previously approved by OMB. The only revision requested is a reduction in the respondent burden hours.

The following tables summarize the burden for the data collection.

CY 2013 Annual Reporting Burden
Data collection activity | Number of respondents | Responses per respondent | Total responses | Average hours per response | Total hour burden | Hourly rate | Total hour cost
Client Interviews for FY 2008, FY 2009, FY 2010
Baseline at enrollment | 462 | 1 | 462 | 0.95 | 439 | $7.25 | $3,182
6 months | 370 | 1 | 369 | 0.92 | 340 | 7.25 | 2,465
12 months | 313 | 1 | 313 | 0.92 | 288 | 7.25 | 2,090
Sub Total | 1,145 |  | 1,145 |  | 1,067 |  | 7,737
Record Management by FY 2008, 2009, 2010 Grantee Staff:
Events Tracking | 13 | 500 | 6,500 | 0.03 | 195 | 15 | 2,925
Person Tracking | 13 | 50 | 650 | 0.1 | 36 | 15 | 540
Service Use | 13 | 50 | 650 | 0.17 | 110.5 | 15 | 1,658
Arrest History | 13 | 50 | 650 | 0.17 | 110.5 | 15 | 1,658
Sub Total | 52 |  | 8,450 |  | 452 |  | 6,780
FY 2008, FY 2009, and FY 2010 Grantees:
Interview and Tracking data submission | 13 | 12 | 48 | 0.17 | 8 | 25 | 200
Overall Total | 1,210 |  | 9,643 |  | 1,527 |  | 17,642

CY 2014 Annual Reporting Burden
Data collection activity | Number of respondents | Responses per respondent | Total responses | Average hours per response | Total hour burden | Hourly rate | Total hour cost
Client Interviews for FY 2009 and 2010 Grantees
Baseline (at enrollment) | 293 | 1 | 293 | 0.83 | 243.19 | $7.25 | $1,763
6 months | 234 | 1 | 234.4 | 0.92 | 215.648 | 7.25 | 1,563
12 months | 253 | 1 | 253 | 0.92 | 232.76 | 7.25 | 1,688
Sub Total | 780.4 |  | 780.4 |  | 692 |  | 5,014
Record Management by FY 2009 and FY 2010 Grantee Staff:
Events Tracking | 7 | 500 | 3,500 | 0.03 | 105 | 15 | 1,575
Person Tracking | 7 | 50 | 350 | 0.1 | 36 | 15 | 540
Service Use | 7 | 50 | 350 | 0.17 | 59.5 | 15 | 893
Arrest History | 7 | 50 | 350 | 0.17 | 59.5 | 15 | 893
Sub Total | 28 |  | 4,550 |  | 260 |  | 3,900
FY 2009 and FY 2010 Grantees:
Interview and Tracking data submission | 7 | 12 | 48 | 0.17 | 8 | 25 | 200
Overall Total | 815 |  | 5,378 |  | 960 |  | 9,114

Annualized Reporting Burden
Data collection activity | Annualized number of respondents | Annualized total responses | Annualized total hour burden
Baseline (at enrollment) | 378 | 378 | 243
6 months | 302 | 302 | 278
12 months | 283 | 283 | 260
Events Tracking | 10 | 5,000 | 150
Person Tracking | 10 | 500 | 36
Service Use | 10 | 500 | 85
Arrest History | 10 | 500 | 85
Interview and Tracking Data Submission | 10 | 48 | 8
Total Annualized | 1,013 | 7,511 | 1,146

Send comments to Summer King, SAMHSA Reports Clearance Officer, Room 8-1099, One Choke Cherry Road, Rockville, MD 20857 OR email her a copy at summer.king@samhsa.hhs.gov. Written comments should be received within 60 days of this notice.

Summer King,
Statistician.

[FR Doc. 2012-15223 Filed 6-20-12; 8:45 am]

BILLING CODE 4162-20-P